DEPARTMENT OF TRANSPORTATION

Research and Special Programs Administration

[Docket Number RSPA-98-4957]

Request for Public Comments and Office of Management and Budget (OMB) Approval of Existing Information Collection

AGENCY: Research and Special Programs Administration, Department of Transportation.

ACTION: Notice.

SUMMARY: This notice seeks comments from the public regarding the need for RSPA to collect paperwork information from gas pipeline operators. The purpose of the paperwork requested from gas operators is to ensure that these operators are properly operating and maintaining their pipelines. This notice is published (pursuant to the Paperwork Reduction Act of 1995) to measure the need for the paperwork collection from gas operators, ways to minimize the burden on operators who must respond, ways to enhance the quality of information collected, and to verify the accuracy of the agency's estimate of the burden (measured in work hours) on pipeline operators. The RSPA published a notice on October 12, 2001, requesting public comment. No comments were received. This notice also seeks approval from the Office of Management and Budget to renew the existing approval of this paperwork collection.

DATES: Comments on this notice must be received by April 4, 2002 to be assured of consideration.

ADDRESSES: Comments should identify the docket number of this notice, RSPA-98-4957. Comments can be mailed directly to Office of Regulatory Affairs, Office of Management and Budget, 726 Jackson Place, NW, Washington, DC 20503, Attn: Desk Officer for the Department of Transportation (DOT).

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

FOR FURTHER INFORMATION CONTACT: Marvin Fell, OPS, RSPA, DOT, 400 Seventh Street, SW, Washington, DC 20590, (202) 366-6205, or by e-mail at marvin.fell@rspa.dot.gov.

SUPPLEMENTARY INFORMATION: Title of Information Collection: Recordkeeping for Gas Pipeline Operators.

OMB Number: 2137-0049.

Type of Request: Renewal of a currently approved information collection.

Abstract: 49 U.S.C. 60117 explains that, in order to enable the Secretary of Transportation to decide whether a person transporting gas is complying with Federal safety standards, this statute requires the maintenance of records and reports and that these and other requested information be provided to DOT upon request. These records help ascertain compliance and provide information for incident investigation.

Estimate of Burden: The average burden hours per operator is 41.5.

Respondents: Gas Pipeline operators.

Estimated Number of Respondents: 22,700.

Estimated Total Annual Burden on Respondents: 940,991.

As used in this notice, ‘information collection’ and ‘paperwork collection’ are synonymous, and include all work related to preparing and disseminating information related to this recordkeeping requirement including completing paperwork, gathering information and conducting telephone calls.

Issued in Washington, DC, on February 20, 2002.
Stacey L. Gerard,
Associate Administrator for Pipeline Safety.

[FR Doc. 02-4478 Filed 3-4-02; 8:45 am]

BILLING CODE 4910-60-P